ENVIRONMENTAL PROTECTION AGENCY

40 CFR Part 63

[AD-FRL-6585-6]

RIN 2060-AE86

National Emission Standards for Hazardous Air Pollutants for Polyether Polyols Production; Synthetic Organic Chemical Manufacturing Industry; Epoxy Resins Production and Non-Nylon Polyamides Production; and Petroleum Refineries

AGENCY: Environmental Protection Agency (EPA).

ACTION: Proposed rule.

SUMMARY: The EPA is proposing to amend the National Emission Standards for Hazardous Air Pollutants (NESHAP) for Polyether Polyols Production; the Synthetic Organic Chemical Manufacturing Industry (also known as the Hazardous Organics NESHAP, or HON); Epoxy Resins Production and Non-Nylon Polyamides Production; and Petroleum Refineries.

This action proposes to correct referencing errors and several equations which contained printing errors in the final NESHAP for Polyether Polyols Production. This action proposes to amend the description of a process change and the description of excess emissions; the requirements pertaining to submission of a request for extension of a compliance date; the storage vessel monitoring requirements; the definition of the terms epoxide, Polyether polyol, and Group 2 wastewater stream; the conditions required during performance testing for batch process vents; which compounds are considered to be organic HAP for the purposes of both the maintenance wastewater and the process wastewater requirements; the information requirements for start-up, shutdown, and malfunction reports; the dates on which initial notification reports are due; and the reporting requirements for other reports to clarify those requirements. For all four NESHAP, the EPA is proposing to amend the definition of equipment leaks to add the term “connectors” to the list of equipment that is subject to the equipment leak provisions in those NESHAP.

In the “Rules and Regulations” section of this Federal Register, we are making these corrections in a direct final rule, without prior proposal, because we view these revisions as noncontroversial, and we anticipate no adverse comments. We have explained our reasons for these corrections in the preamble to the direct final rule.

If we receive no adverse comments, we will take no further action on this proposed rule. If an adverse comment applies to an amendment, paragraph, or section of this proposed rule, and that provision may be addressed separately from the remainder of the proposed rule, we will withdraw only those provisions on which we received adverse comments. We will publish a timely withdrawal in the Federal Register indicating which provisions will become effective and which provisions are being withdrawn. If part or all of the direct final rule in the “Rules and Regulations” section of this Federal Register is withdrawn, all public comments pertaining to those provisions will be addressed in a subsequent final rule based on this proposed rule. We will not institute a second comment period on that subsequent final rule. Any parties interested in commenting must do so at this time.

DATES: Comments. Written comments must be received by June 7, 2000, unless a hearing is requested by May 18, 2000. If a hearing is requested, written comments must be received by June 22, 2000.

Public Hearing. If anyone contacts the EPA requesting to speak at a public hearing by May 18, 2000, a public hearing will be held on May 22, 2000.

Comments. Written comments should be submitted (in duplicate, if possible) to: Air and Radiation Docket and Information Center (6102), Attention Docket numbers A-90-20, A-92-37, A-93-48, and/or A-96-38 (see docket section below), Room M-1500, U.S. Environmental Protection Agency, 401 M Street, SW, Washington, DC 20460. The EPA requests that a separate copy also be sent to the contact person listed below.

ADDRESSES: Docket. Docket numbers A-90-20, A-92-37 (Epoxy Resins Production and Non-Nylon Polyamides Production), A-93-48 (Petroleum Refineries), and A-96-38 (Polyether Polyols Production) contain supporting information used in developing the standards. The dockets are located at the U.S. Environmental Protection Agency, 401 M Street SW, Washington, DC 20460, in room M-1500, Waterside Mall (ground floor), and may be inspected from 8:30 a.m. to 5:30 p.m., Monday through Friday, excluding legal holidays.

Public Hearing. If a public hearing is held, it will be held at the EPA's Office of Administration Auditorium, Research Triangle Park, North Carolina at 10:30 a.m.

FOR FURTHER INFORMATION CONTACT: Mr. Robert E. Rosensteel, Organic Chemicals Group, Emission Standards Division (MD-13), Office of Air Quality Planning and Standards, U.S. EPA, Research Triangle Park, NC 27711, telephone number (919) 541-5608, electronic mail address: rosensteel.bob@epa.gov.

SUPPLEMENTARY INFORMATION: Docket. The docket is an organized and complete file of all the information considered by the EPA in the development of this rulemaking. The docket is a dynamic file because material is added throughout the rulemaking process. The docketing system is intended to allow members of the public and industries involved to readily identify and locate documents so that they can effectively participate in the rulemaking process. Along with the proposed and promulgated standards and their preambles, the contents of the docket will serve as the record in the case of judicial review. (See section 307(d)(7)(A)) of the Clean Air Act.) An index for each docket, as well as individual items contained within the dockets, may be obtained by calling (202) 260-7548 or (202) 260-7549. A reasonable fee may be charged for copying docket materials. Docket indexes are also available by facsimile, as described on the Office of Air and Radiation, Docket and Information Center Website at http://www.epa.gov/airprogm/oar/docket/faxlist.html.

Public Hearing. Persons interested in presenting oral testimony or inquiring as to whether a hearing is to be held should contact Ms. Maria Noell, U.S. Environmental Protection Agency, MD-13, Research Triangle Park, NC 27711, telephone (919) 541-5607, at least 2 days in advance of the public hearing. Persons interested in attending the public hearing must also call Ms. Maria Noell to verify the time, date, and location of the hearing. The public hearing will provide interested parties the opportunity to present data, views, or arguments concerning these proposed amendments.

Comments. Comments and data may be submitted by electronic mail (e-mail) to: a-and-r-docket@epa.gov. Electronic comments must be submitted as an ASCII file to avoid the use of special characters and encryption problems and will also be accepted on disks in WordPerfect® version 5.1, 6.1 or Corel 8 file format. All comments and data submitted in electronic form must note the docket numbers A-90-20, A-92-37, A-93-48, and/or A-96-38. No confidential business information (CBI) should be submitted by e-mail. Electronic comments may be filed online at many Federal Depository Libraries.

Commenters wishing to submit proprietary information for consideration must clearly distinguish such information from other comments and clearly label it as CBI. Send submissions containing such proprietary information directly to the following address, and not to the public docket, to ensure that proprietary information is not inadvertently placed in the docket: Attention: Ms. Melva Toomer, U.S. EPA, OAQPS Document Control Officer, 411 W. Chapel Hill Street, Room 944, Durham NC 27711. The EPA will disclose information identified as CBI only to the extent allowed by the procedures set forth in 40 CFR part 2. If no claim of confidentiality accompanies a submission when it is received by the EPA, the information may be made available to the public without further notice to the commenter.

World Wide Web. In addition to being available in the docket, an electronic copy of this proposed rule is also available through the World Wide Web (WWW). Following signature, a copy of the rule will be posted on the EPA's Technology Transfer Network (TTN) policy and guidance page for newly proposed or promulgated rules at http://www.epa.gov/ttn/oarpg. The TTN at EPA's web site provides information and technology exchange in various areas of air pollution control. If more information regarding the TTN is needed, call the TTN HELP line at (919) 541-5384.

Regulated Entities. Categories and entities potentially affected by this proposed rule include:

Category | Standard Industrial Classification (SIC) codes | North American Industrial Classification System (NAICS) codes | Examples of regulated entities
Industry | 2865 and 2869 | 325110, 325188, 325192, 325193, 325199, and 325120 | Synthetic organic chemical manufacturing industry (SOCMI) units (e.g., producers of benzene, toluene, or any other chemical listed in table 1 of 40 CFR part 63, subpart F).
Industry | 2821 | 325211 | Epoxy resins and non-nylon polyamide resins.
Industry | 2911 | 324110 | Petroleum refineries.
Industry | 2843 and 2869 | 325199 and 325613 | Producers of polyether polyols and polyether mono-ols.

This table is not intended to be exhaustive, but rather provides a guide for readers likely to be interested in the revisions to the regulations proposed in this action. To determine whether your facility is regulated by this action, you should carefully examine all of the applicability criteria in 40 CFR part 63, subparts F, W, CC, and PPP. If you have any questions regarding the applicability of these proposed amendments to a particular entity, consult the person listed in the preceding FOR FURTHER INFORMATION CONTACT section.

What Are the Administrative Requirements for This Action?

Regulatory Flexibility Act (RFA), as Amended by the Small Business Regulatory Enforcement Fairness Act of 1996 (SBREFA), 5 U.S.C. 601 et seq.

The RFA generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impact of this proposed rule on small entities, small entity is defined as: (1) A small business that has less than 750 employees and is unaffiliated with a larger domestic entity; (2) a small governmental jurisdiction that is a government of a city, county, town, school district or special district with a population of less than 50,000; and (3) a small organization that is any not-for-profit enterprise which is independently owned and operated and is not dominant in its field.

After considering the economic impacts of this proposed rule on small entities, I certify that this action will not have a significant economic impact on a substantial number of small entities. We have determined that 7 of the 36 polyether polyol production facilities are classified as small entities (i.e., having fewer than 750 employees). The EPA determined that none of these seven small entities will experience an increase in costs that is greater than one percent of revenues as a result of this proposed rule. This does not qualify as a significant economic impact on a substantial number of small businesses.

For information regarding other administrative requirements for this action, please see the direct final/final rule action that is located in the “Rules and Regulations” section of this Federal Register publication.

List of Subjects in 40 CFR Part 63

Environmental protection, Administrative practice and procedure, Air pollution control, Hazardous substances, Intergovernmental relations, Reporting and recordkeeping requirements.

Dated: April 20, 2000.
Carol M. Browner,
Administrator.

[FR Doc. 00-10419 Filed 5-5-00; 8:45 am]

BILLING CODE 6560-50-P